FEDERAL COMMUNICATIONS COMMISSION

Notice of Public Information Collection(s) Being Reviewed by the Federal Communications Commission, Comments Requested

July 20, 2004.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before September 27, 2004. If you anticipate that you will be submitting comments, but find it difficult to do so within the period of time allowed by this notice, you should advise the contact listed below as soon as possible.

ADDRESSES: Direct all Paperwork Reduction Act (PRA) comments to Les Smith, Federal Communications Commission, Room 1-A804, 445 12th Street, SW., Washington, DC 20554 or via the Internet to Leslie.Smith@fcc.gov.

FOR FURTHER INFORMATION CONTACT: For additional information or copies of the information collection(s), contact Les Smith at (202) 418-0217 or via the Internet at Leslie.Smith@fcc.gov.

SUPPLEMENTARY INFORMATION: OMB Control Number: 3060-0211.

Title: Section 73.1943, Political File.

Form Number: N/A.

Type of Review: Extension of a currently approved collection.

Respondents: Business or other for-profit entities.

Number of Respondents: 16,759.

Estimated Time per Response: 0.25 hours (multiple broadcasts annually).

Frequency of Response: Recordkeeping; On occasion reporting requirement.

Total Annual Burden: 104,744 hours.

Total Annual Cost: None.

Privacy Impact Assessment: No impact(s).

Needs and Uses: 47 CFR 73.1943 requires licensees of broadcast stations to keep and permit public inspection of a complete record (political file) of all requests for broadcast time made by or on behalf of candidates for public office, together with an appropriate notation showing the disposition made by the licensee of such requests and the charges made, if any, if the request is granted. The disposition includes the schedule of time purchased, when the spots actually aired, the rates charged, and the classes of time purchased. Also, when free time is provided for use by or on behalf of candidates, a record of the free time provided is to be placed in the political file. The public uses the data to assess the money expended and time allotted to a political candidate and to ensure that equal access is afforded to other qualified candidates.

OMB Control Number: 3060-0501.

Title: Section 76.206, Candidate Rates; Section 76.1611, Political Cable Rates and Classes of Time.

Form Number: N/A.

Type of Review: Revision of currently approved collection.

Respondents: Business or other for-profit entities.

Number of Respondents: 5,375.

Estimated Hours per Response: 0.5 to 10 hours.

Frequency of Response: One time reporting requirement; third party disclosure.

Total Annual Burden: 139,750 hours.

Total Annual Cost: None.

Privacy Impact Assessment: No impact(s).

Needs and Uses: Section 315 of the Communications Act directs cable operators to charge political candidates the “lowest unit charge of the station” for the same class and amount of time for the same period, during the 45 days preceding a primary or runoff election and the 60 days preceding a general or special election.

47 CFR 76.206 and 76.1611 require cable system operators to disclose and make available to candidates all discount privileges available to commercial advertisers. In addition, Sections 76.206 and 76.1611 require cable systems to disclose any station practices offered to commercial advertisers that enhance the value of advertising spots and different classes of time: immediately preemptible, preemptible with notice, fixed, fire sale, and make good. Section 76.206 also requires cable systems to calculate the lowest unit charge. Furthermore, cable systems are required to review their advertising records throughout the election period to determine whether compliance with this section requires that candidates receive rebates or credits.

The disclosures assure candidates that they are receiving the same lowest unit charge as other commercial advertisers.

OMB Control Number: 3060-0502.

Title: Section 73.1942, Candidate Rates.

Form Number: N/A.

Type of Review: Extension of currently approved collection.

Respondents: Business or other for-profit entities.

Number of Respondents: 12,977.

Estimated Hours per Response: 0.5 to 20 hours.

Frequency of Response: Recordkeeping; On occasion reporting requirement; Third party disclosure.

Total Annual Burden: 733,201 hours.

Total Annual Cost: None.

Privacy Impact Assessment: No impact(s).

Needs and Uses: Section 315(b) of the Communications Act directs broadcast stations to charge political candidates the “lowest unit charge of the station” for the same class and amount of time for the same period, during the 45 days preceding a primary or runoff election and the 60 days preceding a general or special election.

47 CFR 73.1942 requires broadcast licensees to disclose and make available to candidates all discount privileges available to commercial advertisers. In addition, Section 73.1942 requires broadcast licensees to disclose any station practices offered to commercial advertisers that enhance the value of advertising spots and different classes of time (immediately preemptible, preemptible with notice, fixed, fire sale, and make good). Section 73.1942 also requires licensees to calculate the lowest unit charge. Stations are also required to review their advertising records throughout the election period to determine whether compliance with this section requires that candidates receive rebates or credits.

The disclosures assure candidates that they are receiving the same lowest unit charge as other commercial advertisers.

Federal Communications Commission.
William F. Caton,
Deputy Secretary.

[FR Doc. 04-17249 Filed 7-28-04; 8:45 am]

BILLING CODE 6712-01-P